DEPARTMENT OF THE INTERIOR

National Park Service, Interior

Notice of Availability of a Plan of Operations and Environmental Assessment for a Proposed Three Dimensional Seismic Survey Within the Barataria Preserve Unit of Jean Lafitte National Historical Park and Preserve, Jefferson Parish, LA

SUMMARY: In accordance with § 9.52 of title 36 of the Code of Federal Regulations and the National Environmental Policy Act of 1969, notice is hereby given that the National Park Service has a received a Plan of Operations and Environmental Assessment from Seitel Data, Inc. of Houston, Texas, for a Proposed Three Dimensional Seismic Survey within and near the Barataria Preserve unit of Jean Lafitte National Historical Park and Preserve.

The Plan of Operations and Environmental Assessment are available for public review and comment for a period of 30 days from the publication date of this notice, in the office of the Superintendent, Jean Lafitte National Historical Park and Preserve, 365 Canal Street, Suite 2400, New Orleans, Louisiana and will be sent upon written request.

DATES: The proposed seismic operation will be initiated following the approval of the Plan of Operations and a Finding of No Significant Impact by the National Park Service Regional Director. Field operations will last approximately six weeks within the Preserve.

FOR FURTHER INFORMATION CONTACT: Superintendent, Jean Lafitte National Historical Park and Preserve, 365 Canal Street, Suite 2400, New Orleans, Louisiana, 70130.

SUPPLEMENTARY INFORMATION: Jean Lafitte National Historical Park and Preserve was established by Congress on November 10, 1978 (Public Law 95-625) in order to “* * * preserve for the education, inspiration, and benefit of present and future generations significant examples of natural and historical resources of the Mississippi Delta region * * *” When the park was established, all subsurface mineral interests were retained by private owners, thus the federal government does not own any of the subsurface oil and gas rights within the park boundary.

Seitel Data Incorporated is proposing to conduct a three dimensional seismic survey encompassing approximately 105 square miles in Jefferson and St. Charles Parishes, Louisiana. A portion of the proposed survey area includes the northernmost 1,500 acres of the Barataria Preserve unit of Jean Lafitte National Historical Park and Preserve.

In accordance with the National Park Service Organic Act and section 902(a) of the park's enabling legislation, Congress authorized the Secretary of the Interior to promulgate regulations to control nonfederal oil and gas development in the park. These regulations are published as the NPS Nonfederal Oil and Gas Rights Regulations, in the Code of Federal Regulations, part 9, subpart B (36 CFR 9B), and include the following:

These regulations control all activities within any unit of the National Park System in the exercise of rights to oil and gas not owned by the United States where access is on, across, or through federally owned or controlled lands or waters * * * These regulations are designed to insure that activities undertaken pursuant to these rights are conducted in a manner consistent with the purposes for which the National Park System and each unit thereof were created, to prevent or minimize damage to the environment and other resource values, and to insure to the extent feasible that all units of the National Park System are left unimpaired for the enjoyment of future generations. These regulations are not intended to result in the taking of a property interest, but rather to impose reasonable regulations on activities which involve and affect federally-owned lands (36 CFR 9.30(a)).

Jean Lafitte National Historical Park and Preserve has a lawful obligation to provide for the exercise of nonfederal oil and gas rights within its boundary. The NPS Nonfederal Oil and Gas Rights Regulations require that a Plan of Operations and Environmental Assessment be submitted and approved by the park Superintendent and Regional Director prior to the initiation of oil and gas exploration activities. A Plan of Operations and Environmental Assessment has been prepared by Seitel Data, which documents the procedures required by the National Park Service to accomplish the three dimensional survey while avoiding and minimizing adverse environmental impacts to park resources.

Dated: June 12, 2001.
W. Thomas Brown,
Acting Regional Director, Southeast Region.

[FR Doc. 01-16495 Filed 6-29-01; 8:45 am]

BILLING CODE 4310-70-M